DEPARTMENT OF HOMELAND SECURITY

Coast Guard

33 CFR Part 117

[Docket No. USCG-2016-0605]

Drawbridge Operation Regulation; Lewis and Clark River, Astoria, OR

AGENCY: Coast Guard, DHS.

ACTION: Notice of deviation from drawbridge regulation.

SUMMARY: The Coast Guard has issued a temporary deviation from the operating schedule that governs the Oregon State (Lewis and Clark River) highway bridge across the Lewis and Clark River, mile 1.0, at Astoria, Oregon. The deviation is necessary to accommodate bridge maintenance activities during the effective time period. The deviation allows the bridge to remain in the closed-to-navigation position such that it need not open to maritime traffic.

DATES: This deviation is effective from 7 a.m. on July 15, 2016 to 5 p.m. on October 31, 2016.

ADDRESSES: The docket for this deviation, [USCG-2016-0605] is available at http://www.regulations.gov. Type the docket number in the “SEARCH” box and click “SEARCH.” Click on Open Docket Folder on the line associated with this deviation.

FOR FURTHER INFORMATION CONTACT: If you have questions on this temporary deviation, call or email Mr. Steven Fischer, Bridge Administrator, Thirteenth Coast Guard District; telephone 206-220-7282, email d13-pf-d13bridges@uscg.mil.

SUPPLEMENTARY INFORMATION: The Oregon Department of Transportation (ODOT) has requested that the Lewis and Clark River Bridge, mile 1.0, be allowed to remain in the closed-to-navigation position such that it need not open to vessel traffic from 7 a.m. on July 15, 2016 until 5 p.m. on October 31, 2016. The deviation is necessary to facilitate bridge maintenance activities to include repairing and preserving the bascule drawbridge structural steel. The Lewis and Clark River Bridge provides a vertical clearance of 17 feet above mean high water when in the closed-to-navigation position. However, during the bridge maintenance activities, the bascule span of the bridge will have a containment system installed which will reduce the vertical clearance by 5 feet to 12 feet above mean high water. The normal operating schedule of this bridge is detailed at 33 CFR 117.899(c).

This deviation allows the bascule span of the Lewis and Clark River Bridge to remain in the closed-to-navigation position such that it such that it need not open to maritime traffic from 7 a.m. on July 15, 2016 until 5 p.m. on October 31, 2016. However, the bascule span will be available to open on Wednesdays and Sundays with at least three-hour advanced notice. The bascule span will also open at any time for emergency situations with at least three-hour advanced notice. Vessels able to pass through the bridge in the closed position may do so at anytime.

Waterway usage on the Lewis and Clark River is primarily small recreational boaters and fishing vessels transiting to and from Fred Wahl Marine Construction Inc. ODOT has coordinated with Fred Wahl Marine Construction Inc. in this regard. No immediate alternate route is available for vessels to pass. The Coast Guard will also inform the users of the waterways through our Local and Broadcast Notices to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: June 23, 2016.
Steven M. Fischer,
Bridge Administrator, Thirteenth Coast Guard District.

[FR Doc. 2016-15348 Filed 6-28-16; 8:45 am]

BILLING CODE 9110-04-P